DEPARTMENT OF COMMERCE

National Oceanic and Atmospheric Administration

Proposed Information Collection; Comment Request; Southeast Region Individual Fishing Quota Programs

AGENCY: National Marine Fisheries Service (NMFS), National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act (PRA) of 1995.

DATES: To ensure consideration all comments must be submitted by April 24, 2020.

ADDRESSES: Direct all written comments to Adrienne Thomas, PRA Officer, NOAA, 151 Patton Ave., Room 159, Asheville, NC 28801 (or via the internet at PRAcomments@doc.gov). All comments received are part of the public record and will generally be posted on www.regulations.gov without change. All personally identifiable information (for example, name and address) voluntarily submitted by the commenter may be publicly accessible. Do not submit confidential business information, or otherwise sensitive or protected information.

FOR FURTHER INFORMATION CONTACT: Requests for additional information or copies of the information collection instrument and instructions should be directed to Adam Bailey, National Marine Fisheries Service, Southeast Regional Office, Sustainable Fisheries Division, 263 13th Ave. South, St. Petersburg, FL 33701, telephone: 727-824-5305, email: adam.bailey@noaa.gov.

SUPPLEMENTARY INFORMATION:

I. Abstract

This request is for the revision of a current information collection under the Office of Management and Budget's (OMB) Control Number 0648-0551, Southeast Region Individual Fishing Quota (IFQ) Programs. The NMFS Southeast Regional Office manages three commercial IFQ and individual transferable quota (ITQ) programs in the Southeast Region under the authority of the Magnuson-Stevens Fishery Conservation and Management Act (Magnuson-Stevens Act), 16 U.S.C. 1801 et seq. The IFQ programs for red snapper, and groupers and tilefishes occur in Federal waters of the Gulf of Mexico (Gulf), and the ITQ program for wreckfish occurs in Federal waters of the South Atlantic.

This collection of information tracks the transfer and use of IFQ and ITQ shares, and IFQ allocation and landings necessary to operate, administer, and review management of the IFQ and ITQ programs. Regulations for the IFQ and ITQ programs are located at 50 CFR part 622.

The NMFS Southeast Regional Office proposes to revise parts of the information collection approved under OMB Control Number 0648-0551. For the Gulf IFQ Programs, the revision would modify pages within the Catch Share Online System. The Transfer Shares page allows IFQ shareholders to transfer shares online to other IFQ shareholders. Similarly, the Transfer Allocation page allows IFQ shareholders to transfer allocation online to other IFQ shareholders. Beginning in early 2020, IFQ shareholders can use IFQ shares as collateral in the Federal Fisheries Finance Program to obtain a loan that can be used for fishing related expenses. However, to accommodate the finance program, the Transfer Shares and Transfer Allocation pages must be modified to allow IFQ shareholders to indicate if their shares are being held as part of a lien. The Landing Transaction page allows IFQ dealers to submit landing transactions online to record landings of IFQ species. NMFS would revise the Landing Transaction page to allow for better data collection and monitoring of landings in conjunction with the NMFS Southeast Fisheries Science Center.

If implemented by NMFS, these revisions would not change the estimated time per response and the associated cost burden would remain at zero dollars. NMFS estimates that it would still require approximately 3 minutes to complete the Transfer Shares or Transfer Allocation pages per occurrence, and 6 minutes to complete the Landing Transaction page per occurrence.

II. Method of Collection

Information for the Gulf red snapper, and grouper and tilefish IFQ programs is collected electronically via a web-based system, through satellite-linked vessel monitoring systems, through a 24-hour call line, and with paper form submission for landing corrections, closing an account, and account applications, as well as landing transactions under catastrophic circumstances. This revision would update a page in the web-based system.

The share transfer process in the wreckfish ITQ program requires the signatures of witnesses on paper forms. The wreckfish ITQ program remains paper-based until the South Atlantic Fishery Management Council and NMFS consider whether to implement an electronic system. NMFS is not proposing to change the wreckfish ITQ program or information collection.

III. Data

OMB Control Number: 0648-0551.

Form Number(s): None.

Type of Review: Regular submission—revision of a current information collection.

Affected Public: Businesses or other for-profit organizations; Individuals or households.

Estimated Number of Respondents: 1,164.

Estimated Time Per Response:

• Share Transfer Receipt form, Cost Recovery Fee Submission form, 1 minute;

• Share Transfer form, IFQ Close Account form, Cost Recovery Fee Submission form, Landing Transaction Correction Request form, Landing Location Submission form, Transfer Allocation form, Cost Recovery Fee payment through pay.gov, 3 minutes;

• Notification of Landing form, 5 minutes;

• Landing Transaction Report form, 6 minutes;

• IFQ Online Account Application form, 15 minutes;

• Wreckfish Quota Share Transfer form, 18 minutes.

Estimated Total Annual Burden Hours: 2,223.

Estimated Total Annual Cost to Public: $503 in recordkeeping and reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-03625 Filed 2-21-20; 8:45 am]

BILLING CODE 3510-22-P